DEPARTMENT OF ENERGY

Federal Energy Regulatory Commission

[Docket No. PF06-23-000]

Gulf South Pipeline Company, LP; Notice of Site Visit for the Proposed Mississippi Expansion Project

April 13, 2006.

The Gulf South Pipeline Company (Gulf South) is proposing to construct approximately 88 miles of 42-inch-diameter pipeline and a new 39,990 horsepower compression station in Madison Parish, Louisiana, and Warren, Hinds, Copiah and Simpson Counties, Mississippi.

On April 25 and 26, 2006, staff from the Office of Energy Projects (OEP) as part of its Pre-Filing Review will visit the proposed pipeline route and potential compression station sites and will attend open house meetings sponsored by the applicant to answer questions about the Pre-Filing Review process. All interested parties are welcome to attend the site visits and open houses. Those wishing to attend the site visits must provide their own transportation. The schedule for the site visits and open houses is as follows:

Tuesday, April 25th

Site Visit: Meet at 8 a.m. (CST). Eagle Ridge Conference Center Parking Lot, 1500 Raymond Lake Road, Raymond, MS 39154. 601-857-7100.

Open House: 5 p.m.-6:30 p.m. (CST). Eagle Ridge Conference Center, Talon Room, 1500 Raymond Lake Road, Raymond, MS 39154. 601-857-7100.

Wednesday, April 26th

Site Visit: Meet at 8 a.m. (CST). Tallulah Country Club Parking Lot, 762 Old Highway 65 South, Tallulah, LA 71282. 318-574-4173.

Open House: 5 p.m.-6:30 p.m. (CST). Tallulah Country Club, 762 Old Highway 65 South, Tallulah, LA 71282. 318-574-4173.

These events are posted on the Commission's calendar located on the internet at http://www.ferc.gov/EventCalendar/EventsList.aspx. For additional information regarding these events, please contact the Commission's Office of External Affairs at 202-502-8004.

Magalie R. Salas,
Secretary.

[FR Doc. E6-6034 Filed 4-21-06; 8:45 am]

BILLING CODE 6717-01-P